DEPARTMENT OF HOMELAND SECURITY

Federal Emergency Management Agency

[Docket ID FEMA-2019-0002; Internal Agency Docket No. FEMA-B-1971]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Surprise (19-09-0616P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Jan. 24, 2020 | 040053
Maricopa | Unincorporated Areas of Maricopa County (19-09-0616P). | The Honorable Bill Gates, Chairman, Board of Supervisors, Maricopa County, 301 West Jefferson Street, 10th Floor, Phoenix, AZ 85003. | Flood Control District of Maricopa County, 2801 West Durango Street, Phoenix, AZ 85009. | https://msc.fema.gov/portal/advanceSearch. | Jan. 24, 2020 | 040037
Yavapai | City of Prescott (19-09-1152P). | The Honorable Greg Mengarelli, Mayor, City of Prescott, City Hall, 201 South Cortez Street, Prescott, AZ 86303. | Public Works Department, 433 North Virginia Street, Prescott, AZ 86301. | https://msc.fema.gov/portal/advanceSearch. | Jan. 6, 2020 | 040098
Yavapai | Unincorporated Areas of Yavapai County (19-09-1152P). | The Honorable Randy Garrison, Chairman, Board of Supervisors, Yavapai County, 10 South 6th Street, Cottonwood, AZ 86326. | Yavapai County Flood Control District, 1120 Commerce Drive, Prescott, AZ 86305. | https://msc.fema.gov/portal/advanceSearch. | Jan. 6, 2020 | 040093
California:
Lake | Unincorporated Areas of Lake County (19-09-1004P). | The Honorable Tina Scott, Chair, Board of Supervisors, Lake County, 255 North Forbes Street, Lakeport, CA 95453. | Lake County, Department of Public Works, 255 North Forbes Street, Room 309, Lakeport, CA 95453. | https://msc.fema.gov/portal/advanceSearch. | Jan. 16, 2020 | 060090
Placer | City of Roseville (19-09-1696P). | The Honorable John B. Allard II, Mayor, City of Roseville, 311 Vernon Street, Roseville, CA 95678. | Engineering Department, 316 Vernon Street, Roseville, CA 95678. | https://msc.fema.gov/portal/advanceSearch. | Jan. 21, 2020 | 060243
Riverside | Agua Caliente Band of Cahuilla Indian Reservation (19-09-1172P). | The Honorable Jeff L. Grubbe, Chairman, Tribal Council, Agua Caliente Band of Cahuilla Indians, 5401 Dinah Shore Drive, Palm Springs, CA 92264. | Tribal Administrative Office, Planning and Natural Resources, 5401 Dinah Shore Drive, Palm Springs, CA 92264. | https://msc.fema.gov/portal/advanceSearch. | Jan. 31, 2020 | 060763
Riverside | City of Palm Springs (19-09-1172P). | The Honorable Robert Moon, Mayor, City of Palm Springs, 3200 East Tahquitz Canyon Way, Palm Springs, CA 92262. | Public Works and Engineering Department, 3200 East Tahquitz Canyon Way, Palm Springs, CA 92262. | https://msc.fema.gov/portal/advanceSearch. | Jan. 31, 2020 | 060257
Idaho:
Canyon | City of Middleton (19-10-0311P). | The Honorable Darin Taylor, Mayor, City of Middleton, City Hall, 1103 West Main Street, Middleton, ID 83644. | City Hall, 1103 West Main Street, Middleton, ID 83644. | https://msc.fema.gov/portal/advanceSearch. | Jan. 17, 2020 | 160037
Canyon | Unincorporated Areas of Canyon County (19-10-0311P). | The Honorable Pam White, Chair, Board of County Commissioners, County Courthouse, 1115 Albany Street, Room 101, Caldwell, ID 83605. | Canyon County Administration Building, 111 North 11th Avenue, Room 101, Caldwell, ID 83605. | https://msc.fema.gov/portal/advanceSearch. | Jan. 17, 2020 | 160208
Illinois:
DuPage | City of Warrenville (19-05-2162P). | The Honorable David L. Brummel, Mayor, City of Warrenville, 28W701 Stafford Place, Warrenville, IL 60555. | City Hall, 28W701 Stafford Place, Warrenville, IL 60555. | https://msc.fema.gov/portal/advanceSearch. | Jan. 9, 2020 | 170218
DuPage | Unincorporated Areas of DuPage County (19-05-2162P). | The Honorable Dan Cronin, Chairman, DuPage County Board, 421 North County Farm Road, Wheaton, IL 60187. | DuPage County Administration Building, Stormwater Management, 421 North County Farm Road, Wheaton, IL 60187. | https://msc.fema.gov/portal/advanceSearch. | Jan. 9, 2020 | 170197
Marshall | City of Wenona (19-05-3185P). | The Honorable Jamie Durham, Mayor, City of Wenona, P.O. Box 601, Wenona, IL 61377. | City Hall, 226 South Chestnut Street, Wenona, IL 61377. | https://msc.fema.gov/portal/advanceSearch. | Jan. 9, 2020 | 170462
Marshall | Unincorporated Areas of Marshall County (19-05-3185P). | The Honorable Gary R. Kroeschen, Chairman, Marshall County Board, P.O. Box 328, Lacon, IL 61540. | Marshall County Courthouse, 122 North Prairie Street, Lacon, IL 61540. | https://msc.fema.gov/portal/advanceSearch. | Jan. 9, 2020 | 170994
Indiana:
Marion | City of Indianapolis (18-05-2012P) | The Honorable Joe Hogsett, Mayor, City of Indianapolis, 2501 City-County Building, 200 East Washington Street, Indianapolis, IN 46204. | City Hall, 1200 Madison Avenue, Suite 100, Indianapolis, IN 46225. | https://msc.fema.gov/portal/advanceSearch. | Jan. 24, 2020 | 180159
Marion | Town of Speedway (18-05-2012P) | Mr. Jacob Blasdel, Town Manager, Town of Speedway, 1450 North Lynhurst Drive, Speedway, IN 46224. | Town Hall, 1450 North Lynhurst Drive, Speedway, IN 46224. | https://msc.fema.gov/portal/advanceSearch. | Jan. 24, 2020 | 180162
Iowa: Black Hawk | City of Waterloo (19-07-1540P). | The Honorable Quentin M. Hart, Mayor, City of Waterloo, 715 Mulberry Street, Waterloo, IA 50703. | City Hall, 715 Mulberry Street, Waterloo, IA 50703. | https://msc.fema.gov/portal/advanceSearch. | Jan. 28, 2020 | 190025
Minnesota: Hennepin | City of Maple Grove (18-05-4086P). | The Honorable Mark Steffenson, Mayor, City of Maple Grove, Government Center, 12800 Arbor Lakes Parkway North, Maple Grove, MN 55369. | Government Center, and Public Safety Facility, 12800 Arbor Lakes Parkway North, Maple Grove, MN 55369. | https://msc.fema.gov/portal/advanceSearch. | Jan. 31, 2020 | 270169
Missouri:
St. Charles | City of St. Charles (19-07-1154P). | The Honorable Dan Borgmeyer, Mayor, City of St. Charles, 200 North 2nd Street, 4th Floor, Room 400, St Charles, MO 63301. | City Hall, 200 North 2nd Street, St. Charles, MO 63301. | https://msc.fema.gov/portal/advanceSearch. | Jan. 28, 2020 | 290318
Scott | City of Sikeston (18-07-2115P). | The Honorable Steven Burch, Mayor, City of Sikeston, 105 East Center Street, Sikeston, MO 63801. | City Hall, 105 East Center Street, Sikeston, MO 63801. | https://msc.fema.gov/portal/advanceSearch. | Feb. 6, 2020 | 295270
Scott | Unincorporated Areas of Scott County (18-07-2115P). | The Honorable Jim Glueck, Presiding Scott County Commissioner, P.O. Box 188, Benton, MO 63736. | Scott County Courthouse, 131 South Winchester Street, Benton, MO 63736. | https://msc.fema.gov/portal/advanceSearch. | Feb. 6, 2020 | 290837
Nebraska: Lincoln | City of North Platte (19-07-0085P). | The Honorable Dwight Livingston, Mayor, City of North Platte, 211 West 3rd Street, North Platte, NE 69101. | City Hall, 211 West 3rd Street, North Platte, NE 69101. | https://msc.fema.gov/portal/advanceSearch. | Feb. 7, 2020 | 310143
Nevada: Clark | Unincorporated Areas of Clark County (19-09-1976P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | https://msc.fema.gov/portal/advanceSearch. | Jan. 13, 2020 | 320003
Ohio:
Butler | Unincorporated Areas of Butler County (18-05-6293P). | The Honorable Donald L. Dixon, President, Board of Commissioners, Butler County Government Services Center, 315 High Street, 6th Floor, Hamilton, OH 45011. | Butler County Administrative Center, Building and Zoning Department, 130 High Street, 1st Floor, Hamilton, OH 45011. | https://msc.fema.gov/portal/advanceSearch. | Jan. 27, 2020 | 390037
Franklin | City of Grove City (18-05-3157P). | The Honorable Richard L. “Ike” Stage, Mayor, City of Grove City, 4035 Broadway, Grove City, OH 43123. | City Hall, 4035 Broadway, Grove City, OH 43123. | https://msc.fema.gov/portal/advanceSearch. | Jan. 10, 2020 | 390173
Warren | City of Mason (18-05-6293P). | The Honorable Victor Kidd, Mayor, City of Mason, Mason Municipal Center, 6000 Mason Montgomery Road, Mason, OH 45040. | Municipal Center, 6000 Mason Montgomery Road, Mason, OH 45040. | https://msc.fema.gov/portal/advanceSearch. | Jan. 27, 2020 | 390559

[FR Doc. 2019-23883 Filed 10-31-19; 8:45 am]

BILLING CODE 9110-12-P